DEPARTMENT OF AGRICULTURE

Animal and Plant Health Inspection Service

[Docket No. 03-091-1]

Availability of a Draft Commodity Risk Assessment for the Importation of Potatoes From Mexico

AGENCY: Animal and Plant Health Inspection Service, USDA.

ACTION: Notice of availability and request for comments.

SUMMARY: We are advising the public that the Animal and Plant Health Inspection Service has prepared a draft commodity risk assessment relative to a request we have received to amend the regulations to allow the importation of potatoes from Mexico into the continental United States. We are making this draft commodity risk assessment available to the public for review and comment.

DATES: We will consider all comments that we receive on or before April 2, 2004.

ADDRESSES: You may submit comments by postal mail/commercial delivery or by e-mail. If you use postal mail/commercial delivery, please send four copies of your comment (an original and three copies) to: Docket No. 03-091-1, Regulatory Analysis and Development, PPD, APHIS, Station 3C71, 4700 River Road Unit 118, Riverdale, MD 20737-1238. Please state that your comment refers to Docket No. 03-091-1. If you use e-mail, address your comment to regulations@aphis.usda.gov. Your comment must be contained in the body of your message; do not send attached files. Please include your name and address in your message and “Docket No. 03-091-1” on the subject line.

You may read any comments that we receive on the draft commodity risk assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Robert L. Griffin, Director, Plant Epidemiology and Risk Analysis Laboratory, Center for Plant Health Science and Technology, PPQ, APHIS, 1017 Main Campus Drive Suite 1550, Raleigh, NC 27606-5202; (919) 513-1590.

SUPPLEMENTARY INFORMATION:

Background

The regulations in 7 CFR part 319 (referred to below as the regulations) prohibit or restrict the importation of various articles into the United States from certain parts of the world to prevent the introduction and dissemination of plant pests that are new to or not widely distributed within the United States.

The Animal and Plant Health Inspection Service is considering a request to amend the regulations to allow the importation of potatoes (Solanum tuberosum L.) from Mexico into the continental United States for consumption. To evaluate the risks associated with the importation of potatoes from Mexico, a draft commodity risk assessment, entitled “Importation of Fresh Potato (Solanum tuberosum L.) Tubers from Mexico into the Continental United States” (November 2003), has been prepared. We are making the draft commodity risk assessment available to the public for review and comment. We will consider all comments that we receive on or before the date listed under the heading DATES at the beginning of this notice.

The draft commodity risk assessment may be viewed on the Internet at http://www.aphis.usda.gov/ppq/pra/. You may request paper copies of the draft commodity risk assessment by calling or writing to the person listed under FOR FURTHER INFORMATION CONTACT. Please refer to the title of the draft commodity risk assessment when requesting copies. The draft commodity risk assessment is also available for review in our reading room (information on the location and hours of the reading room is provided under the heading ADDRESSES at the beginning of this notice).

Authority: 7 U.S.C. 450 and 7701-7772; 21 U.S.C. 136 and 136a; 7 CFR 2.22, 2.80, and 371.3.

Done in Washington, DC, this 27th day of January 2004.
Kevin Shea,
Acting Administrator, Animal and Plant Health Inspection Service.

[FR Doc. 04-2022 Filed 1-30-04; 8:45 am]

BILLING CODE 3410-34-P